SECURITIES AND EXCHANGE COMMISSION

[Release No. 34-62377; File No. SR-NYSEArca-2010-55]

Self-Regulatory Organizations; Notice of Filing of Proposed Rule Change by NYSE Arca, Inc. To Amend the Bylaws of NYSE Euronext To Adopt a Majority Voting Standard in Uncontested Elections of Directors

Correction

In notice document 2010-16106 beginning on page 38576 in the issue of July 2, 2010, make the following correction:

On page 38579, in the final line of the first paragraph, “June 23, 2010” should read “July 23, 2010”.

[FR Doc. C1-2010-16106 Filed 7-8-10; 8:45 am]

BILLING CODE 1505-01-D